DEPARTMENT OF THE TREASURY

Submission for OMB Review; Comment Request

October 16, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 23, 2009 to be assured of consideration.

Alcohol and Tobacco Tax and Trade Bureau (TTB)

OMB Number: 1513-0067.

Type of Review: Extension.

Title: Wholesale Dealers Applications, Letterheads, and Notices Relating to Operations. (Variations in Format or Preparation of Records) (TTB REC 5170/6)

Description: This information collection is used by permittees who wish to request a variance. We use written applications, letterheads, and notices to rule on proposed variations from standard requirements, to ascertain that revenue is not placed in jeopardy, and to protect the revenue.

Respondents: Businesses or other for-profits.

Estimated Total Burden Hours: 515 hours.

OMB Number: 1513-0104.

Type of Review: Extension.

Title: Information Collected in Support of Small Producer's Wine Tax Credit (TTB REC 5120/11)

Description: TTB collects this information to ensure proper tax credit. The information is used by taxpayers in preparing their returns and by TTB to verify tax computation. Recordkeepers are wine producers who want to transfer their credit to warehouse operators and the transferees who take such credit.

Respondents: Businesses or other for-profits.

Estimated Total Burden Hours: 2,800 hours.

OMB Number: 1513-0014.

Type of Review: Extension.

Form: TTB F 5000.8.

Title: Power of Attorney.

Description: TTB F 5000.8 delegates the authority to a specific individual to sign documents on behalf of an applicant or principal. 26 U.S.C. 6061 authorizes that individuals signing returns, statements, or other documents required to be filed by industry members under the provisions of the IRC or the FAA Act, are to have that authority on file with TTB.

Respondents: Businesses or other for-profits.

Estimated Total Burden Hours: 3,333 hours.

OMB Number: 1513-0063.

Type of Review: Extension.

Title: Stills: Notices, Registration, and Records (TTB REC 5150/8)

Description: The information collection is used to account for and regulate the distillation of distilled spirits to protect the revenue and to provide for identification of distillers.

Respondents: Businesses or other for-profits.

Estimated Total Burden Hours: 42 hours.

OMB Number: 1513-0097.

Type of Review: Extension.

Title: Notices Relating to Payment of Firearms and Ammunition Excise Tax.

Description: Excise taxes are collected on the sale or use of firearms and ammunition by firearms or ammunition manufacturers, importers, or producers. Taxpayers who elect to pay excise taxes by electronic fund transfer must furnish a written notice upon election and discontinuance. Tax revenue will be protected.

Respondents: Businesses or other for-profits.

Estimated Total Burden Hours: 1 hour.

OMB Number: 1513-0009.

Type of Review: Extension.

Form: TTB F 5120.36, TTB F 5120.25.

Title: Application to Establish and Operate Wine Premises, and Wine Bond.

Description: TTB F 5120.25, Application to Establish and Operate Wine Premises, is the form used to establish the qualifications of an applicant applying to establish and operate wine premises. The applicant certifies his/her intention to produce and/or store a specified amount of wine and take certain precautions to protect it from unauthorized use. TTB F 5120.36, Wine Bond, is the form used by the proprietor and a surety company as a contract to ensure the payment of the wine excise tax.

Respondents: Businesses or other for-profits.

Estimated Total Burden Hours: 2,150 hours.

OMB Number: 1513-0060.

Type of Review: Extension.

Title: Letterhead Applications and Notices Relating to Tax-Free Alcohol (TTB REC 5150/4)

Description: Tax-free alcohol is used for nonbeverage purposes in scientific research and medicinal uses by educational organizations, hospitals, laboratories, etc. Use of tax-free alcohol is regulated to prevent illegal diversion to taxable beverage use. Permits/Applications control authorized uses and flow. TTB REC 5150/4 is designed to protect revenue and public safety.

Respondents: Businesses or other for-profits.

Estimated Total Burden Hours: 2,222 hours.

OMB Number: 1513-0066.

Type of Review: Extension.

Title: Retail Liquor Dealers Records of Receipts of Alcoholic Beverages and Commercial Invoices (TTB REC 5170/3)

Description: The primary objectives of this recordkeeping requirement are revenue protection, by establishment of accountability data available for audit purposes and consumer protection, by subject record traceability of alcoholic beverages to the retail liquor dealer level of distribution in the event of defective products. This collection of information is contained in 27 CFR 31.234.

Respondents: Businesses or other for-profits.

Estimated Total Burden Hours: 1 hour.

Clearance Officer: Frank Foote, (202) 927-9347, Alcohol and Tobacco Tax and Trade Bureau, Room 200 East, 1310 G. Street, NW., Washington, DC 20005.

OMB Reviewer: Shagufta Ahmed, (202) 395-7873, Office of Management and Budget, Room 10235, New Executive Office Building, Washington, DC 20503.

Celina Elphage,
Treasury PRA Clearance Officer.

[FR Doc. E9-25472 Filed 10-21-09; 8:45 am]

BILLING CODE 4810-31-P